DEPARTMENT OF HEALTH AND HUMAN SERVICES

Health Resources and Services Administration

Part C Early Intervention Services Grant

AGENCY: Health Resources and Services Administration, HHS.

ACTION: Notice of Non-competitive Program Expansion Supplemental Award.

SUMMARY: The Health Resources and Services Administration (HRSA) will be providing temporary critical HIV medical care and treatment services through GLH Magnolia Medical Clinic to avoid a disruption of HIV clinical care to clients in Bolivar, Sunflower and Washington counties in Mississippi.

SUPPLEMENTARY INFORMATION: Intended recipient of the award: GLH Magnolia Medical Clinic, Greenwood, Mississippi.

Amount of the award: $97,500 to ensure ongoing clinical services to the target population.

Authority: Section 2651 of the Public Health Service Act, 42 U.S.C. 300ff-51.

CFDA Number: 93.918.

Project period: The period of supplemental support is from September 1, 2008, to December 31, 2008.

Justification for the Exception to Competition: Critical funding for HIV medical care and treatment services to clients in Bolivar, Sunflower and Washington Counties in Mississippi will be continued through a noncompetitive program expansion supplement to an existing grant award to GLH Magnolia Medical Clinic in Greenwood, Mississippi. This is a temporary award because the previous grant recipient serving this population notified HRSA that it would not continue in the program after the fiscal year (FY) 2008 award was made. GLH Magnolia Medical clinic is the best qualified grantee for this supplement, since it serves many of the former grantee's patients and is the closest Part C Program to the former grantee. Further funding beyond December 31, 2008, for this service area will be competitively awarded during the next Part C HIV Early Intervention Service (EIS) competing application process for FY 2009.

FOR FURTHER INFORMATION CONTACT: Kathleen Treat, via e-mail ktreat@hrsa.gov, or via telephone, 301-443-0493.

Dated: September 10, 2008.
Elizabeth M. Duke,
Administrator.

[FR Doc. E8-21754 Filed 9-16-08; 8:45 am]

BILLING CODE 4165-15-P